DEPARTMENT OF COMMERCE

National Oceanic and Atmospheric Administration

50 CFR Part 648

[Docket No. 180205126-8126-01]

RIN 0648-BH66

Control Date for the Northeast Multispecies Charter/Party Fishery; Northeast Multispecies Fishery Management Plan; Correction

AGENCY: National Marine Fisheries Service (NMFS), National Oceanic and Atmospheric Administration (NOAA), Commerce.

ACTION: Notice; correction.

SUMMARY: This action corrects an error in the Advanced Notice of Proposed Rulemaking that set a control date for the Northeast Multispecies charter/party fishery. This action is necessary because the document provided an incorrect internet address for submission of electronic comments. This action is intended to provide the correct internet address to ensure the public can easily access the online rulemaking portal.

ADDRESSES: You may submit comments on this document, identified by NOAA-NMFS-2018-0042 by any of the following methods:

• Electronic Submission: Submit all electronic public comments via the Federal e-Rulemaking Portal. Go to www.regulations.gov/docket?D=NOAA-NMFS-2018-0042, click the “Comment Now!” icon, complete the required fields, and enter or attach your comments.

• Mail: Submit written comments to Michael Pentony, Regional Administrator, National Marine Fisheries Service, 55 Great Republic Drive, Gloucester, MA 01930. Mark the outside of the envelope, “Comments on Northeast Multispecies Charter/Party Control Date.”

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Spencer Talmage, Fishery Management Specialist, 978-281-9232.

SUPPLEMENTARY INFORMATION:

Need for Correction

On March 19, 2018, we published an Advanced Notice of Proposed Rulemaking to set a new control date for the Northeast Multispecies charter/party fishery (83 FR 11952). The internet address to the Federal e-Rulemaking Portal provided in the ADDRESSES section of this notice was not correct. This is corrected in the ADDRESSES section of this notice.

Dated: March 28, 2018.
Alan D. Risenhoover,
Acting Deputy Assistant Administrator for Regulatory Programs, National Marine Fisheries Service.

[FR Doc. 2018-06660 Filed 4-2-18; 8:45 am]

BILLING CODE 3510-22-P